DEPARTMENT OF JUSTICE

Notice of Lodging of Proposed Consent Decrees Under the Comprehensive Environmental Response, Compensation and Liability Act

On February 26, 2013, the Department of Justice lodged proposed de minimis consent decrees with the United States District Court for the Eastern District of Missouri in the lawsuit entitled United States v. Amsted Industries, Inc. et al., Civil Action No. 1:13-cv-00040.

In this action the United States is seeking response costs pursuant to Section 107 of the Comprehensive Environmental Response, Compensation and Liability Act (“CERCLA”), 42 U.S.C. 9607, for costs incurred in response to releases of hazardous substances at the Missouri Electric Works Superfund Site (“the Site”), in Cape Girardeau, Missouri. The proposed consent decrees will resolve the United States' claims against the sixteen de minimis defendants (Amsted Industries, Inc., Atlas Alchem Plastics, Inc., Chase Resorts, Inc., EcReCon, Inc., Electric Plant Board of the City of Mayfield, KY, Exxon Mobil Corp., Independent Electric Machinery Co., City of Jacksonville, IL, Joliet Equipment Co., Mount Carmel Public Utility, City of Mount Vernon, MO, City of New Madrid, MO, Pet Inc., City of Seymour, MO, Tipmont Rural Electric Membership Corp., and City of West Plains, MO) under Section 107 of CERCLA, 42 U.S.C. 9607, at the Site. Under the terms of the proposed consent decree, all sixteen defendants will make cash payments that collectively total $1.12 million to the United States. In return, the United States will grant all defendants covenants not to sue under Sections 106 and 107 of CERCLA.

The publication of this notice opens a period for public comment on the consent decrees. Comments should be addressed to the Assistant Attorney General, Environment and Natural Resources Division, and should refer to United States v. Amsted Industries, Inc. et al., D.J. Ref. No. 90-11-2-614/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decrees may be examined and downloaded at this Justice Department Web site: http://www.usdoj.gov/enrd/Consent_Decrees.html. We will provide a paper copy of the consent decrees upon written request and payment of reproduction costs. Please mail your request and payment to: Consent Decree Library, U.S. DOJ—ENRD, P.O. Box 7611, Washington, DC 20044-7611.

Please enclose a check or money order for $14.75 (25 cents per page reproduction cost) payable to the United States Treasury.

Maureen Katz,
Assistant Section Chief, Environmental Enforcement Section, Environment and Natural Resources Division.

[FR Doc. 2013-04856 Filed 3-1-13; 8:45 am]

BILLING CODE 4410-15-P